DEPARTMENT OF LABOR

Office of the Secretary

Submission for OMB Review: Comment Request

September 5, 2008.

The Department of Labor (DOL) hereby announces the submission of the following public information collection request (ICR) to the Office of Management and Budget (OMB) for review and approval in accordance with the Paperwork Reduction Act of 1995 (Pub. L. 104-13, 44 U.S.C. chapter 35). A copy of this ICR, with applicable supporting documentation, including among other things a description of the likely respondents, proposed frequency of response, and estimated total burden may be obtained from the RegInfo.gov Web site at http://www.reginfo.gov/public/do/PRAMain or by contacting Mary Beth Smith-Toomey on 202-693-4223 (this is not a toll-free number)/ e-mail DOL_PRA_PUBLIC@dol.gov.

Interested parties are encouraged to send comments to the Office of Information and Regulatory Affairs, Attn: OMB Desk Officer for the Dept. of Labor—Employment and Training Administration, Office of Management and Budget, Room 10235, Washington, DC 20503, Telephone: 202-395-7316/Fax: 202-395-6974 (these are not toll-free numbers), E-mail: Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Type of Review: Revision of an existing OMB Control Number.

Title of Collection: State Planning Guidance and Instructions for Title I of the Workforce Investment Act of 1998 (WIA) and the Wagner-Peyser Act and State Unified Plan Planning Guidance for State Unified Plans and Unified Plan Modifications.

OMB Control Number: 1205-0398.

Affected Public: State, Local or Tribal Governments.

Total Estimated Number of Respondents: 59.

Total Estimated Annual Burden Hours: 2,950.

Total Estimated Annual Costs Burden: $0.

Description: The Workforce Investment Act of 1998 (WIA) (Pub. L. 105-220) provides the framework for a network of State workforce investment systems designed to meet the needs of the nation's businesses, job seekers, youth, and those who want to further their careers. Title I of WIA requires that States develop five-year strategic plans for this system, which must also contain the detail plans required under the Wagner-Peyser Act (29 U.S.C. 49g). Plan modifications to the WIA title I and Wagner-Peyser Act (29 U.S.C. 49g) are required by WIA 20 CFR 661-230. Section V provides States the option of submitting a State Unified Plan. The State Unified Plan was previously cleared under OMB Control Number 1205-0407 and is now being combined with this request for clarity and because they are so closely related in scope and requirements. For additional information, see the related notices published at Volume 73 FR 24613 through 24614 on May 5, 2008.

Darrin A. King,
Departmental Clearance Officer.

[FR Doc. E8-21235 Filed 9-11-08; 8:45 am]

BILLING CODE 4510-FN-P